DEPARTMENT OF ENERGY

Ultra-Deepwater and Unconventional Natural Gas and Other Petroleum Resources Research and Development Program 2010 Annual Plan

AGENCY: Department of Energy, Office of Fossil Energy.

ACTION: Notice of report availability.

SUMMARY: The Office of Fossil Energy announces the availability of the 2010 Annual Plan for the Ultra-Deepwater and Unconventional Natural Gas and Other Petroleum Resources Research and Development Program on the DOE Web site at http://management.energy.gov/FOIA/1480.htm or in print form (see “Contact” below).

The 2010 Annual Plan is in compliance with the Energy Policy Act of 2005, Subtitle J, Section 999B(e)(3) which requires the publication of this plan and all written comments in the Federal Register.

FOR FURTHER INFORMATION CONTACT: Elena Melchert, U.S. Department of Energy, Office of Oil and Natural Gas, Mail Stop FE-30, 1000 Independence Avenue, SW., Washington, DC 20585 or phone: 202-586-5600 or e-mail to UltraDeepwater@hq.doe.gov.

SUPPLEMENTARY INFORMATION:

Executive Summary [Excerpted From the 2010 Annual Plan p. 3]

This document is the 2010 Annual Plan for the Ultra-Deepwater and Unconventional Natural Gas and Other Petroleum Resources Research and Development Program established pursuant to Title IX, Subtitle J (Subtitle J) of the Energy Policy Act of 2005 (EPAct). Subtitle J is reproduced in Appendix A.

As required by Subtitle J, the Department of Energy (DOE) contracted with a consortium (Program Consortium) to administer three program elements identified in EPAct: ultra-deepwater architecture and technology, unconventional natural gas and other petroleum resources exploration and production technology, and technology challenges of small producers. A fourth program element of complementary research identified in EPAct is being conducted by the National Energy Technology Laboratory (NETL). NETL is also responsible for review and oversight of the Program Consortium.

In 2006, NETL awarded a contract to the Research Partnership to Secure Energy for America (RPSEA) to function as the Program Consortium.

The 2007 Annual Plan, the first annual plan, resulted in a total of 15 solicitations from which 43 projects were selected. The 2008 Annual Plan resulted in the selection of 29 projects. Implementation of the 2009 Annual Plan includes 7 solicitations issued by the Program Consortium in October 2009, with selections anticipated in early 2010.

As further required by Subtitle J, in September 2009, two Federal advisory committees, the Ultra-Deepwater Advisory Committee and the Unconventional Resources Technology Advisory Committee, began their respective reviews of the draft 2010 Annual Plan. In October 2009, the two advisory committees provided their recommendations.

Section 999B(e)(3) of EPAct requires DOE to publish all written comments received regarding the annual plan. Accordingly, the Program Consortium's 2010 draft Annual Plan is included here as Appendix B, and the comments and recommendations provided by the two Federal advisory committees are included here as Appendix C. No other written comments were received.

The 2010 Annual Plan provides a comprehensive outline of the research activities planned for 2010. The primary focus of these activities is to fill in any technology gaps not adequately addressed by the projects and solicitations to date. A highlight of 2010 Annual Plan is the attention that is being given to technology transfer.

Technology transfer is important to the success of this research program. Subtitle J requires 2.5% of the amount of each award to be designated for technology transfer activities. The Federal advisory committees have recommended that more information on technology transfer be included in future annual plans. In response, the 2010 Annual Plan describes the structure for the overall technology transfer program.

Subtitle J provides that the Ultra-Deepwater and Unconventional Natural Gas and Other Petroleum Research Fund be funded at $50-million-per-year, with funds generated from Federal lease royalties, rents, and bonuses paid by oil and gas companies. Seventy-five percent of these funds are obligated to the Program Consortium's contract to execute the three program elements. After allocations for contract management by NETL and program administration by the Program Consortium, the amount to be invested in research activities by the Program Consortium totals $31.88 million per year.

Under the Stage-Gate approach applied to prior years' activities, all Program Consortium administered projects are fully funded to the completion of the appropriate decision point identified in each contract, which may include multiple stages. If a decision is made to move to the next stage or decision point or to gather additional data, additional funding will be provided from available funds.

The NETL Strategic Center for Natural Gas and Oil is responsible for management of the consortium's contract as part of its review and oversight function. Complementary research and development (R&D) is being carried out by NETL's Office of Research and Development. Planning and analysis related to the Program, including benefits assessment and technology impacts analysis, is being carried out by NETL's Office of Systems, Analysis, and Planning.

Subtitle J contains a general sunset provision for Title IX, Subtitle J, of September 30, 2014.

Issued in Washington, DC, on February 22, 2010.
Christopher A. Smith,
Deputy Assistant Secretary, Office of Oil and Natural Gas, Office of Fossil Energy.

[FR Doc. 2010-5083 Filed 3-9-10; 8:45 am]

BILLING CODE 6450-01-P